DEPARTMENT OF ENERGY

Federal Energy Regulatory Commission

Combined Notice of Filings #1

Take notice that the Commission received the following exempt wholesale generator filings:

Docket Numbers: EG15-35-000.

Applicants: Los Vientos Windpower III, LLC.

Description: Self-Certification as an Exempt Wholesale Generator of Los Vientos Windpower III, LLC.

Filed Date: 12/26/14.

Accession Number: 20141226-5024.

Comments Due: 5 p.m. ET 1/16/15.

Take notice that the Commission received the following electric rate filings:

Docket Numbers: ER10-2211-004.

Applicants: Vandolah Power Company, L.L.C.

Description: Triennial Compliance Filing of Vandolah Power Company, L.L.C.

Filed Date: 12/24/14.

Accession Number: 20141224-5130.

Comments Due: 5 p.m. ET 2/24/15.

Docket Numbers: ER12-2178-011; ER14-1524-003; ER13-1536-005; ER12-2528-010; ER11-2056-016; ER11-2016-017; ER11-2014-019; ER11-2013-019; ER11-2011-018; ER11-2010-019; ER11-2009-018; ER11-2007-017; ER11-2005-019; ER10-3027-003; ER10-3025-005; ER10-2192-022; ER10-2184-022; ER10-2180-022; ER10-2178-022; ER10-2172-022; ER10-1143-018; ER10-1081-019; ER10-1080-018; ER10-1078-018; ER10-1048-019; ER10-1020-018.

Applicants: AV Solar Ranch 1, LLC, Wind Capital Holdings, LLC, Tuana Springs Energy, LLC, PECO Energy Company, Integrys Energy Services of New York, Inc., Integrys Energy Services, Inc., High Mesa Energy, LLC, Harvest WindFarm, LLC, Handsome Lake Energy, LLC, Exelon Wyman, LLC, Exelon Wind 4, LLC, Exelon New Boston, LLC, Exelon Generation Company, LLC, Exelon Framingham, LLC, CR Clearing, LLC, Cow Branch Wind Power, LLC, Constellation Power Source Generation, LLC, Constellation NewEnergy, Inc., Constellation Mystic Power, LLC, Constellation Energy Commodities Group Maine, LLC, Commonwealth Edison Company, CER Generation, LLC, Cassia Gulch Wind Park, LLC, Baltimore Gas & Electric Company, Exelon West Medway, LLC, Michigan Wind 1, LLC.

Description: Updated Market Power Analysis for the Southeast Region of the Exelon MBR Entities.

Filed Date: 12/23/14.

Accession Number: 20141223-5361.

Comments Due: 5 p.m. ET 2/23/15.

Docket Numbers: ER12-303-002.

Applicants: Virginia Electric and Power Company, Dominion Energy Marketing, Inc., Dominion Nuclear Connecticut, Inc., Dominion Energy Manchester Street, Inc., Dominion Retail, Inc., Fairless Energy, LLC, NedPower Mt. Storm LLC, Fowler Ridge Wind Farm LLC, Dominion Bridgeport Fuel Cell, LLC.

Description: Change in Status of Nuclear Waiver of Virginia Electric and Power Company, et al.

Filed Date: 12/23/14.

Accession Number: 20141223-5364.

Comments Due: 5 p.m. ET 1/13/15.

Docket Numbers: ER12-458-007; ER13-1489-005; ER13-1488-003.

Applicants: Quantum Choctaw Power, LLC, Quantum Lake Power, LP, Quantum Pasco Power, LP.

Description: Updated Market Power Analysis of the Quantum Entities.

Filed Date: 12/23/14.

Accession Number: 20141223-5356.

Comments Due: 5 p.m. ET 2/23/15.

Docket Numbers: ER14-697-004.

Applicants: Entergy Services, Inc.

Description: Tariff Amendment per 35.17(b): Correct effective date under ER14-697 to be effective 12/31/9998.

Filed Date: 12/29/14.

Accession Number: 20141229-5016.

Comments Due: 5 p.m. ET 1/20/15.

Docket Numbers: ER14-700-004.

Applicants: Entergy Services, Inc.

Description: Tariff Amendment per 35.17(b): Change effective date under ER14-700 to be effective 12/31/9998.

Filed Date: 12/29/14.

Accession Number: 20141229-5017.

Comments Due: 5 p.m. ET 1/20/15.

Docket Numbers: ER15-740-000.

Applicants: Southern California Edison Company.

Description: § 205(d) rate filing per 35.13(a)(2)(iii): GIA & Distribution Service Agmt with FPL Energy Cabazon Wind, LLC to be effective 12/21/2014.

Filed Date: 12/24/14.

Accession Number: 20141224-5093.

Comments Due: 5 p.m. ET 1/14/15.

Docket Numbers: ER15-741-000.

Applicants: PacifiCorp.

Description: § 205(d) rate filing per 35.13(a)(2)(iii): PacifiCorp Energy Network Operating Agreement to be effective 2/22/201.

Filed Date: 12/24/14.

Accession Number: 20141224-5101.

Comments Due: 5 p.m. ET 1/14/15.

Docket Numbers: ER15-742-000.

Applicants: Chief Energy Power LLC.

Description: Initial rate filing per 35.12 Chief Energy Power Market-Based Rate Tariff to be effective 12/24/2014.

Filed Date: 12/24/14.

Accession Number: 20141224-5108.

Comments Due: 5 p.m. ET 1/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2014.
Nathaniel J. Davis, Sr.,
Deputy Secretary.

[FR Doc. 2014-30825 Filed 1-2-15; 8:45 am]

BILLING CODE 6717-01-P